GENERAL SERVICES ADMINISTRATION

[Notice-MG-2023-02; Docket No. 2023-0002; Sequence No. 29]

Office of Federal High-Performance Green Buildings; Green Building Advisory Committee; Notification of Upcoming Public Meeting

AGENCY: Office of Government-wide Policy, General Services Administration (GSA).

ACTION: Meeting notice.

SUMMARY: In accordance with the requirements of the Federal Advisory Committee Act, this notice provides the agenda for a web-based meeting of the Green Building Advisory Committee (the Committee). This meeting will be focused on gathering Committee member comments on the P100 Federal Facilities Standards (https://www.gsa.gov/real-estate/design-and-construction/engineering/facilities-standards-for-the-public-buildings-service) of GSA's Public Buildings Service (PBS).

The meeting is open to the public to observe; online attendees are required to register in advance to attend as instructed below.

DATES: The Committee's online meeting will be held Monday, September 18, 2023, from 1:30 p.m. to 3:45 p.m., Eastern Time (ET).

FOR FURTHER INFORMATION CONTACT: Mr. Michael Bloom, Designated Federal Officer, Office of Federal High-Performance Green Buildings, Office of Government-wide Policy, GSA, 1800 F Street NW, (Mail-code: MG), Washington, DC 20405, at gbac@gsa.gov or 312-805-6799. Additional information about the Committee, including meeting materials and agendas, will be made available on-line at http://www.gsa.gov/gbac.

SUPPLEMENTARY INFORMATION:

Procedures for Attendance and Public Comment

To register to attend this meeting as a public observer, please send the following information via email to gbac@gsa.gov: your first and last name, organization and email address and whether you would like to provide public comment. Requests to observe the September 18, 2023 meeting must be received by 5:00 p.m. ET, on Thursday, September 14, 2023 to receive the meeting information.

Full meeting agenda and attendance information will be provided following registration. Limited time will be provided for public comment.

GSA will be unable to provide technical assistance to any listener experiencing technical difficulties. Testing access to the Web meeting site before the calls is recommended. To request an accommodation, such as closed captioning, or to ask about accessibility, please contact Mr. Bloom at gbac@gsa.gov at least five business days prior to the meeting to give GSA as much time as possible to process the request.

Background

The Administrator of GSA established the Committee on June 20, 2011 (Federal Register/Vol. 76, No. 118) pursuant to section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

September 18, 2023 Online Meeting Agenda

• Introductions

• About the P100

• Proposed Committee Comments to the P100 (including Committee vote if needed)

• Public Comment

• Adjourn

Brian Gilligan,
Deputy Director, Office of Federal High-Performance Green Buildings, General Services Administration.

[FR Doc. 2023-18943 Filed 8-31-23; 8:45 am]

BILLING CODE 6820-14-P